DEPARTMENT OF ENERGY

Federal Energy Regulatory Commission

[Docket No. CP01-195-000]

Williston Basin Interstate Pipeline Company; Notice of Application

May 10, 2001.

Take notice that on April 30, 2001, Williston Basin Interstate Pipeline Company (Williston Basin), P.O. Box 5601, Bismarck, North Dakota 58506-5601, filed an Abbreviated Application pursuant to Section 7(b) of the Natural Gas Act (NGA), as amended, and Sections 157.7 and 157.18 of the Federal Energy Regulatory Commission's (the Commission) Regulations for an order authorizing the abandonment of gathering facilities and related land rights and services located in Phillips and Valley Counties, Montana by sale to Bitter Creek Pipelines, LLC (Bitter Creek). Facilities include: approximately 363.689 miles of 2 to 12 inch diameter gas gathering pipeline; three compressor stations; and 278 field meter stations in Bowdoin Field. Land rights and services include: pipeline gathering easements; Bureau of Land Management, highway, railroad and other permits; and various gathering service agreements. Bitter Creek has informed Williston Basin that it will operate the gathering facilities to be acquired on an open access basis. Williston Basin also seeks a determination that following abandonment of the subject facilities, and upon their transfer to Bitter Creek, the subject facilities will be nonjurisdictional gathering facilities and not subject to regulation by the Commission as provided in NGA Section 1(b), all as more fully set forth in the application which is on file with the Commission and open to public inspection. The filing may be viewed at http://www.ferc.fed.us/online/rims.htm (call 202-208-2222 for assistance).

Questions regarding the details of this proposal should be directed to Keith A. Tiggelaar, Manager, Regulatory Affairs, Williston Basin Interstate Pipeline Company, Post Office Box 5601, Bismarck, North Dakota, 58506-5601, call 701-530-1560.

There are two ways to become involved in the Commission's review of this project. First, any person wishing to obtain legal status by becoming a party to the proceedings for this project should, on or before May 31, 2001, file with the Federal Energy Regulatory Commission, 888 First Street, NE., Washington, DC 20426, a motion to intervene in accordance with the requirements of the Commission's Rules of Practice and Procedure (18 CFR 385.211 or 385.214) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceedings can ask for court review of Commission orders in the proceeding.

However, a person does not have to intervene in order to have comments considered. The second way to participate is by filing with the Secretary of the Commission, as soon as possible, an original and two copies of comments in determining the appropriate action to be taken, but the filing of a comment alone will not serve to make the filer a party to the proceeding. The Commission's rules require that persons filing comments in opposition to the project provide copies of their protests only to the party or parties directly involved in the protest.

Comments, interventions and protests may be filed electronically via the Internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-12286 Filed 5-15-01; 8:45 am]

BILLING CODE 6717-01-M